DEPARTMENT OF ENERGY

Federal Energy Regulatory Commission

[AD12-17-000, et al.]

Supplemental Notice of Technical Conference

Review of Small Generator Interconnection Agreements and Procedures | Docket Nos. AD12-17-000.
Solar Energy Industries Association | Docket Nos. RM12-10-000.
California Independent System Operator Corporation | Docket Nos. ER12-502-001, ER12-502-002.
PJM Interconnection, LLC | Docket Nos. ER12-1177-001.
California Independent System Operator Corporation | Docket Nos. ER12-1855-000.

On June 13, 2012, the Federal Energy Regulatory Commission (Commission) announced that a Technical Conference on issues related to a petition for rulemaking recently submitted by the Solar Energy Industries Association (Docket No. RM12-10-000) will be held on Tuesday, July 17, 2012. Please note that the time for the conference has been changed; the conference will be convened from 9 a.m. to approximately 4 p.m. (EDT). The staff-led conference will be held in the Commission Meeting Room at the Commission's headquarters at 888 First Street NE., Washington, DC 20426. Members of the Commission may attend the conference, which will also be open for the public to attend. Advance registration is not required, but is encouraged. We will provide nametags for those who register on or before July 10, 2012. Participants may register at the following Web page: https://www.ferc.gov/whats-new/registration/small-generator-7-17-12-form.asp.

Attached to this supplemental notice is an agenda for the conference. If any changes are made, the revised agenda will be posted prior to the event on the Calendar of Events on the Commission's Web site, www.ferc.gov.

Notice is also hereby given that discussions at the conference may address matters at issue in the above-referenced individual proceedings that are either pending or within their rehearing period.

A free webcast of the technical conference will be available. Anyone with Internet access who desires to listen to this event can do so by navigating to the Calendar of Events on the Commission's Web site and locating this event in the Calendar. The event will contain a link to its webcast. The Capitol Connection provides technical support for webcasts and will offer the option of listening to the conference via phone-bridge for a fee. If you have any questions about the webcast, visit www.CapitolConnection.org or call (703) 993-3100.

This conference will also be transcribed. Transcripts will be available from Ace Reporting Company (202-347-3700 or 800-336-6646).

FERC conferences are accessible under section 508 of the Rehabilitation Act of 1973. For accessibility accommodations please send an email to accessibility@ferc.gov or call toll free (866) 208-3372 (voice) or (202) 502-8659 (TTY), or send a fax to (202) 208-2106 with the requested accommodations.

Anyone wishing to comment on issues raised at the technical conference should submit written comments to the Commission no later than August 16, 2012.

For information related to the agenda, please contact Leslie Kerr at leslie.kerr@ferc.gov or (202) 502-8540. For information related to logistics, please contact Sarah McKinley at sarah.mckinley@ferc.gov or (202) 502-8368.

Dated: July 3, 2012.
Kimberly D. Bose,
Secretary.

[FR Doc. 2012-16883 Filed 7-12-12; 8:45 am]

BILLING CODE 6717-01-P